DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 77 FR 14525—14527, dated March 12, 2012) is amended to reflect the reorganization of the Office for State, Tribal, Local, and Territorial Support, Centers for Disease Control and Prevention.

Section C-B, Organization and Functions, is hereby amended as follows:

Delete in its entirety the title and functional statements for the Office for State, Tribal, Local and Territorial Support (CQ) and insert the following:

Office for State, Tribal, Local and Territorial Support (CQ). The mission of the Office for State, Tribal, Local, and Territorial Support (OSTLTS) is to advance U.S. public health agency and system performance, capacity, agility, and resilience. To carry out its mission, OSTLTS: (1) Establishes and maintains productive relationships, partnerships, and alliances with strategic organizational elements of the public health system; (2) increases coordination among federal and state, tribal, local, and territorial (STLT) health agencies to develop more highly functioning organizations and enable evidence-based policy and decision making; (3) provides CDC-wide guidance and strategic direction on activities related to STLT health agencies; (4) provides leadership in the development and implementation of evidence-based approaches for agency and system management, evolution, and transformation; (5) identifies and evaluates gaps in the structure and operation of public health agencies and systems; (6) forecasts emerging opportunities and challenges to governmental public health agencies/systems and collaborates to prioritize, develop and pre-position essential resources for optimal agency and systems response; (7) provides guidance and leadership in the development and provision of training and cross-learning opportunities to and with STLT health partners; (8) provides guidance and support for the recruitment, development, and management of CDC field staff for STLT agencies; (9) develops and coordinates cross-agency guidance to improve grants administration and management; (10) coordinates the assessment and development of solutions to improve technical assistance and service delivery; and (11) enhances public health policy, law, and practice through shared leadership, communication, collaboration, and coordination with STLT agencies.

Office of the Director (CQA). (1) Manages, directs, and coordinates the strategy, operations, and activities of OSTLTS; (2) coordinates cross-cutting CDC activities related to STLT components of the public health system; (3) works with Federal and STLT agencies, CDC programs, partners, and other stakeholders to develop more highly functioning organizations and to enable evidence-based policy and decision making; (4) provides leadership in the development and implementation of evidence-based approaches for system management, evolution, and transformation; (5) facilitates STLT agency access to and interaction with CDC information and expertise; (6) provides guidance, strategic direction, and oversight for the investment of OSTLTS resources and assets; (7) establishes and maintains productive relationships, partnerships, and alliances with strategic organizational components of the public health system; (8) serves as a principal CDC liaison to other federal agencies and organizations concerning STLT agencies and governments; (9) communicates OSTLTS activities and issues to internal and external stakeholders; (10) tracks and analyzes recent and proposed legislation and policies for their impact on STLT programs/activities and OSTLTS' mission and programs; (11) develops, supports, and assesses cross-agency research and science relevant to OSTLTS mission-critical activities and program direction; (12) provides guidance on policy, performance, legislative issues, and long term strategies for program development and implementation; (13) responds to or coordinates responses to executive, congressional, departmental, CDC/CIO and other external requests for information; (14) responds to or coordinates the response to issues management tasks and clearance activities for OSTLTS; (15) leads or participates in cross-cutting strategic planning, performance management, and policy activities; (16) maintains effective reciprocal communications with STLT agencies; (17) develops and implements strategies to enhance STLT—CDC communications; (18) provides leadership in using efficient and transparent processes to communicate decision-making activities; (19) oversees and maintains cooperative agreements with national public health organization partners; (20) identifies and supports critical cross-CDC relationships and coordination as it relates to the partnership cooperative agreements; (21) provides leadership in evaluating and improving the performance of partnership cooperative agreements; and (22) coordinates tribal consultations and polices.

Public Health Law Office (CQA2). (1) Provides support and consultation for, and access to, public health law expertise at state, local, territorial, and tribal public health levels; (2) reviews, studies, and disseminates information about existing state and local laws that may have application to public health; (3) engages national, state and local public health partners and policy makers, state, local, and U.S. court systems and law enforcement in identifying priorities and in developing and applying legal tools; (4) develops practical, law-centered tools for practitioners and policy makers at the STLT levels; and (5) provides consultation and technical assistance to CDC programs and partners.

Knowledge Management Office (CQA5). (1) Facilitates the development and provision of training and development opportunities to STLT health partners; (2) provides leadership in identifying and implementing strategies for effective collaboration of CDC and STLT public health professionals; (3) works collaboratively across OSTLTS, CDC and STLT agencies to disseminate and promote the adoption of leading practices, lessons learned and models that improve community programs; and (4) established collaboration and coordination between clinical medicine and public health to better coordinate and partner for healthier communities.

Field Services Office (CQA4). (1) Provides cross-agency support, guidance and strategic direction for the recruitment, development, and management of CDC field staff embedded within external public health agencies; (2) develops and provides training for project officers and consultants, grants management officials, field staff and leadership; (3) conducts periodic assessments of field staff and project officer needs; (4) maintains accurate demographic and assignment-related data on field staff; (5) supports grants management optimization efforts to improve SILT health agencies; (6) provides agency-wide leadership and coordination in the identification, assessment, and development of solutions to improve CDC technical assistance and service delivery; (7) assists in the coordination of CDC and OSTLTS Director site visits to SILT agencies; and (8) manages the Public Health Associates Program and provides direct oversight and supervision for the Associates.

Division of Public Health Performance Improvement (CQB). The mission of the Division of Public Health Performance Improvement (DPHPI) is to advance U.S. public health agency and system performance to better serve and protect the population. In carrying out its mission, DPHPI: (1) Promotes coordination among federal and SILT health agencies to support the improvement and development of organizations and enable evidence-based policy and decision making; (2) identifies and evaluates gaps in the structure and operation of public health agencies and systems; (3) forecasts emerging opportunities and challenges to governmental public health agencies/systems and assists in prioritizing essential resources to ensure optimal response; (4) strengthens operational performance and capability of SILT health agencies; (5) develops and disseminates evidence of successful strategies, organizational structures, policies, programs, and system improvements; (6) supports SILT agencies to meet national standards and attain accreditation; (7) supports SILT health agency performance management and quality improvement activities; and (8) provides the scientific leadership and management to ensure the quality of science within OSTLTS.

Office of the Director (CQB1). (1) Manages, directs and coordinates the activities of DPHPI; (2) provides leadership and guidance on division operations, policies, program development and program integration; (3) coordinates with Federal and STLT agencies and CDC programs to leverage cross-cutting activities to develop stronger organizations and enable evidence-based policy and decision making; and (4) provides leadership in the development and implementation of evidence-based approaches for public health system management and improvement.

Health Department and Systems Development Branch (CQBB). (1) Identifies, synthesizes and forecasts emerging opportunities and challenges to public health departments and systems; (2) provides leadership to prioritize and, develop tools, resources, standards, and practices to strengthen operational performance and capability of STLT health departments with special emphasis on performance and quality improvement, and assessment and planning; (3) supports efforts to use national accreditation and other important standards to improve public health performance, quality, and service delivery; and (4) provides technical assistance, expertise, consultation, and cross-learning opportunities to STLT health departments.

Applied Systems Research and Evaluation Branch (CQBC). (1) Engages in research to identify gaps in the structure and operation of public health agencies and systems; (2) evaluates and reports on STLT health outcomes and other indicators as appropriate to stimulate improvement activities; (3) conducts assessments and analysis of TLT programs and data to increase effectiveness and efficiencies; (4) provides evidence of successful strategies, organizational structures, policies, programs, and system improvements that advance prevention and health promotion programs and overall health outcomes; and (5) evaluates and validates standards, policies, leading practices, and models across CDC and STLT agencies.

Dated: April 25, 2012.
Sherri A. Berger,
Chief Operating Officer, Centers for Disease Control and Prevention.

[FR Doc. 2012-10887 Filed 5-7-12; 8:45 am]

BILLING CODE 4160-18-M